DEPARTMENT OF TRANSPORTATION

Maritime Administration

[Docket Number: MARAD-2002-12956]

Requested Administrative Waiver of the Coastwise Trade Laws

AGENCY: Maritime Administration, Department of Transportation.

ACTION: Invitation for public comments on a requested administrative waiver of the Coastwise Trade Laws for the vessel DOLPHIN.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR part 388 (65 FR 6905; February 11, 2000) that the issuance of the waiver will have an unduly adverse effect on a U.S.-vessel builder or a business that uses U.S.-flag vessels, a waiver will not be granted.

DATES: Submit comments on or before September 3, 2002.

ADDRESSES: Comments should refer to docket number MARAD-2002-12956. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested. Name of vessel: DOLPHIN. Owner: Adventures in Paradise, LLC.

(2) Size, capacity and tonnage of vessel. According to the applicant: “70.4 ft., 79 Gross Tons, 59 Net Tons.”

(3) Intended use for vessel, including geographic region of intended operation and trade. According to the applicant: “Planned operation of the vessel is as a luxury charter boat in Florida and the Caribbean in the winter, and New England from New York to Maine in the summer. As a member of the American Sail Training Association, it is expected that the boat will also be used for sail training programs for young adults and daysailing trips for disabled people, the blind and cancer patients through the Atlantic Challenger Foundation and the Maritime Challenge Foundation, both based in Rockland, Maine.”

(4) Date and Place of construction and (if applicable) rebuilding. Date of construction and Place of construction: “Built at the German Naval Shipyards in Swinemunde, Germany in 1943. Rebuilt in England in 1962 and currently undergoing an extensive rebuild in Norwalk, Connecticut.”

(5) A statement on the impact this waiver will have on other commercial passenger vessel operators. According to the applicant: “There are very few operators of vessels even remotely similar which are large historic wooden schooners fitted out for luxury charters. Most other boats in this type of service are new and either fiberglass, aluminum or steel. Most of the luxury charter business is on modern powerboats and the portion which are on sailboats are on large steel or aluminum hulls which sail almost exclusively in the Mediterranean and Caribbean. Most of the very few historic old wooden sailing vessels are used exclusively for sail training and education and/or for day cruises out of one harbor.”

(6) A statement on the impact this waiver will have on U.S. shipyards. According to the applicant: “U.S. Shipyards are not building wooden boats of this type. Even modern steel or aluminum sailing vessels of this size are being built exclusively in other countries. The restoration, rebuilding, refit, repair and maintenance of this vessel will provide substantial work for U.S. Shipyards for many years.”

Dated: July 26, 2002.
By Order of the Maritime Administrator.
Joel C. Richard,
Secretary, Maritime Administration.

[FR Doc. 02-19379 Filed 7-31-02; 8:45 am]

BILLING CODE 4910-81-P